DEPARTMENT OF HOMELAND SECURITY

Coast Guard

[Docket No. USCG-2007-0049]

National Boating Safety Activities: Funding for National Nonprofit Public Service Organizations

AGENCY: Coast Guard, DHS.

ACTION: Notice of funds availability.

SUMMARY: The Coast Guard seeks applications for fiscal year 2008 grants and cooperative agreements from national, nongovernmental, nonprofit public service organizations. These grants and cooperative agreements would be used to fund projects on various subjects promoting recreational boating safety on a national scope. This notice provides information about the grant and cooperative agreement application process and some of the subjects of particular interest to the Coast Guard.

DATES: You may obtain application packages on or after November 1, 2007. Proposals for the fiscal year 2008 grant cycle must be received before 3 p.m. Eastern time, January 22, 2008.

ADDRESSES: You may obtain application packages by calling the Coast Guard at 202-372-1060. Submit proposals to: Commandant (CG-54221), U.S. Coast Guard Headquarters, 2100 Second Street, SW., Room 3100, Washington, DC 20593-0001. This notice is available from the Coast Guard and on the Internet at the Web site for the Boating Safety Division at http://www.uscgboating.org and at http://www.regulation.gov.

FOR FURTHER INFORMATION CONTACT: Ms. Vickie Hartberger, Boating Safety Division, U.S. Coast Guard (CG-54221), 2100 Second Street, SW., Room 3100, Washington, DC 20593-0001; 202-372-1060; e-mail Vickie.L.Hartberger@uscg.mil. The points of contact for the nine project areas are listed at the end of each project description.

SUPPLEMENTARY INFORMATION: Title 46, United States Code, Chapter 131, provides for the allocation of available funds from the Sport Fish Restoration and Boating Trust Fund for State recreational boating safety grants. The majority of funds are allocated to the states and up to 5 percent of these funds may be distributed by the Coast Guard for grants and cooperative agreements for national recreational boating safety activities of national nonprofit public service organizations. We anticipate we will allocate approximately $5,400,000 among several organizations for fiscal year 2008. Thirty-seven awards totaling $5,219,380 were made in fiscal year 2007 ranging from $10,000 to $650,000. Nothing in this notice should be construed as committing the Coast Guard to dividing available funds among qualified applicants or awarding any specified amount. Applicants must be national, nongovernmental, nonprofit public-service organizations and must establish that their activities are national in scope. You may obtain an application package by writing or calling the point of contact listed in ADDRESSES on or after November 1, 2007. The application package contains all necessary forms, an explanation of how the grant program is administered, and a checklist for submitting a grant application. You can obtain specific information on organization eligibility, proposal requirements, award procedures, and financial administration procedures by contacting the person listed in FOR FURTHER INFORMATION CONTACT.

The Boating Safety Financial Assistance Program is listed in section 97.012 of the Catalog of Federal Domestic Assistance. Prospective grantees may propose up to a 5-year grant with 12-month (fiscal year) increments identified. In effect, an award would be made for the first year and thereafter renewal is optional. Each annual increment would not be guaranteed. Under a continuation (multi-year) type of award, the Coast Guard agrees to support a grant project at a specific level of effort for a specified period of time, with a statement of intention to provide additional future support, provided funds are available, the project continues to support the needs of the government, and the achieved results warrant further support. Award of continuation grants will be made on a strict case-by-case basis to assist planning in certain large scale projects and ensure continuity. Procedures also provide for awarding noncompetitive grants or cooperative agreements on a case-by-case basis. This authority is judiciously used to fund recurring annual projects or events which can only be carried out by one organization, and projects that present targets of opportunity for timely action on new or emerging program requirements or issues. The following list includes items of specific interest to the Coast Guard, however, potential applicants should not be constrained by the list. We welcome any initiative that supports the mission of the USCG Office of Boating Safety, which is: To ensure the public has a safe, secure, and enjoyable recreational boating experience by implementing programs that minimize the loss of life, personal injury, and property damage while cooperating with environmental and national security efforts. The performance goal of the National Recreational Boating Safety Program is to reduce recreational boating casualties. To achieve this goal, our objectives, for which we need additional expertise from grant recipients, include:

• Improving the reliability of boating accident reporting, which assists in identifying causal factors that could then be addressed through education and/or regulation.

• Tracking and Increasing Awareness of Safe Boating Practices.

• Increasing lifejacket wear.

• Decreasing the number of alcohol-involved accidents.

• Increasing operator compliance with Navigation Rules.

• Increasing operator compliance with USCG safety equipment carriage requirements.

• Tracking completion of advanced boating education courses with the future goal of using this data to increase said training.

• Tracking and increasing the number of NASBLA-approved boating safety education certificates issued annually.

Some project areas of continuing and particular interest for grant funding include the following:

1. Develop and Conduct a National, Year-Round, Safe Boating Campaign that addresses areas identified through the National RBS Program's Strategic Plan. The Coast Guard seeks a grantee to plan, develop and implement a 2008 National Safe Boating Campaign that promotes a concentrated effort to target specific boater market segments and recreational boating safety topics. This year-round campaign must coincide with the objectives of the National RBS Program. The nationwide activities of this public awareness campaign should be based on the support of the volunteers and professional groups at the grassroots (local) level. Key to this collaborative effort is how it will complement the Coast Guard's national outreach initiatives. The major focus of the effort will be to modify the behavior of all boaters with special focus on boat operators being responsible for their own safety as well as the safety of their passengers. Significant emphasis should be placed on lifejacket wear, boater education, safety and security issues, propeller injury prevention, and the dangers of carbon monoxide, as well as boating under the influence of alcohol or drugs. Efforts will also be coordinated, year-round, with other national safety initiatives and special media events. Point of Contact: Ms. Jo Calkin, 202-372-1065.

2. Develop and Conduct a National Recreational Boating Safety Outreach and Awareness Conference. The Coast Guard seeks a grantee to plan, implement, oversee, and conduct a National Recreational Boating Safety Outreach and Awareness Conference that supports the organizational objectives of the National Recreational Boating Safety Program. The overall conference focus should have promotional strategies with special emphasis on boat operators being responsible for their own safety as well as the safety of their passengers. Significant emphasis should be placed on offering multiple subjects that afford the participants professional development opportunities and educational enhancement. Subjects should focus on, but not be limited to: Lifejacket wear, safety and security issues, propeller injury prevention, the dangers of carbon monoxide, boater education, vessel safety, outreach and awareness efforts, as well as boating under the influence of alcohol or drugs. Point of Contact: Ms. Jo Calkin, 202-372-1065.

3. Federal/State Cooperative Partnering Efforts. The Coast Guard seeks a grantee to provide programs to measurably enhance uniformity and reciprocity in state boating safety laws/regulations and other state boating safety efforts. The grantee would provide a forum to encourage such uniformity and reciprocity among jurisdictions, and closer cooperation and assistance in developing, administering, and enforcing state laws and regulations pertaining to boating safety. The grantee would further provide a forum to encourage sufficient patrol and other activities to ensure adequate enforcement of state boating safety laws and regulations, provision of an adequate USCG recognized state boating safety education program, enhanced maintenance of USCG approved vessel numbering system and enhanced implementation of a USCG approved marine casualty reporting system. Point of Contact: Mr. W. Vann Burgess, 202-372-1071.

4. Develop and Conduct Boating Accident Investigation Seminars. The Coast Guard seeks a grantee to develop, provide instructional material, and conduct training courses nationwide for boating accident investigators, including four courses at the U.S. Coast Guard's Maritime Law Enforcement Academy in Charleston, South Carolina. Point of Contact: Mr. Mike Jendrossek, 202-372-1052.

5. National Estimate of Personal Flotation Device Wear Rate. The Coast Guard seeks a grantee to provide reliable and valid national estimates of personal flotation device (PFD or lifejacket) wear by recreational boaters. Wear rates of PFDs should be based on actual observations taken from a representative sample of boaters across a range of water venues that include lakes, rivers, and bays. It is essential that observation methods remain as close as possible to those used in previous years so the number of boats, types of boats, length of boats, operation and activity of boats, as well as the age and gender of the boaters observed remain consistent. Using the design of the National PFD Wear Rate Study as a base, a supplemental observational study is solicited to determine if PFD wear rates are higher in an area after the roll-out of the annual Safe Boating Campaign. The grantee shall conduct observations in areas around the country that have relatively high boating activity in the summer and therefore may be expected to have a reasonable level of activity to make conclusions about changes in wear rates more stable. Observation data for 2007 will be collected for inclusion in the baseline measure. In the summer of 2008, the post-campaign measurement will be conducted. Point of Contact: Mr. Jeff Ludwig, 202-372-1061.

6. Voluntary Standards Development Support. The Coast Guard seeks a grantee to carry out a program to encourage active participation by members of the public and other qualified persons in the development of technically sound voluntary safety standards for boats and associated equipment. Point of Contact: Mr. Po Chang, 202-372-1075.

7. Inflatable Lifejacket Testing for Children. The Coast Guard seeks a grantee to develop a test program and conduct appropriate testing to determine if children under 16 years of age are capable of safely using automatic inflatable lifejackets. At least two age groups should be considered, (a) Children from 6-12 years old; and (b) Children from 12 to 16 years old. Point of Contact: Mr. Dan McCormick, 202-372-1078.

8. Navigation Rules and State Violations. The Coast Guard seeks a grantee to conduct a survey or study of each state and territory to determine such things as, “Has the state adopted the COLREGS/Navigation Rules within their state code? If not, have they created their own set of Navigation Rules?” If not, do they at least use the Navigation Rules to determine other violations of state law (i.e. reckless operation, failure to have proper look out, etc.) How do they document such cases? The outcome of this survey should help (clarify) how the Coast Guard determines the most common Navigation Rules violations (documented) in terms of a common definition. Point of Contact: Mr. W. Vann Burgess, 202-372-1071.

9. Practical “on the water” Course. The Coast Guard seeks a grantee to carry out a program to encourage and develop a small boat practical “on the water” course curriculum. The basic boat handling skills should take into consideration all types of weather conditions such as heavy winds and sea conditions. Close quarter maneuvering in congested harbor and waterways should also be taught. The operation of different types of vessels should also be taken into consideration, such as twin or single inboard engines with rudder steerage which would be considerably different from inboard/outboard engines or outboard motors. The course should address all these issues. Point of Contact: Mr. Wayne Stacey, 202-372-1067.

We encourage proposals addressing other boating safety concerns.

Potential grantees should focus on partnership, e.g., exploring other sources, linkages, in-kind contributions, cost sharing, and partnering with other organizations or corporations. With your application, we encourage you to list and describe the tools you will use to measure your grant's performance toward achieving the goals of the National RBS Program Strategic Plan or toward achieving a specific objective that will result in the achievement of these goals. The Strategic Plan for the National RBS Program can be found on the Boating Safety Division Web site at http://www.uscgboating.org. For some examples of tools, we invite you to explore this CDC Web site: http://www.cdc.gov/ncipc/pub-res/demonstr.htm.

This announcement is also available on the www.grants.gov Web site; we are also publishing the information in the Federal Register again this year to provide information to the public in a timely manner.

Dated: October 31, 2007.
Francis J. Sturm,
Captain, U.S. Coast Guard, Acting Director of Prevention Policy.

[FR Doc. E7-21972 Filed 11-8-07; 8:45 am]

BILLING CODE 4910-15-P